DEPARTMENT OF COMMERCE

National Oceanic and Atmospheric Administration

[I.D. 030306C]

Endangered Species; File No. 1506

AGENCY: National Marine Fisheries Service (NMFS), National Oceanic and Atmospheric Administration (NOAA), Commerce.

ACTION: Notice; receipt of application for permit modification.

SUMMARY: Notice is hereby given that Dr. Blair E. Witherington, Florida Fish and Wildlife Conservation Commission, Fish and Wildlife Research Institute, Melbourne Beach Field Laboratory, 9700 South A1A, Melbourne Beach, Florida 32951, has requested a modification to scientific research Permit No. 1506.

DATES: Written, telefaxed, or e-mail comments must be received on or before April 10, 2006.

ADDRESSES: The modification request and related documents are available for review upon written request or by appointment in the following office(s):

Permits, Conservation and Education Division, Office of Protected Resources, NMFS, 1315 East-West Highway, Room 13705, Silver Spring, MD 20910; phone 301-713-2289; fax 301-427-2521; and

Southeast Region, NMFS, 263 13th Ave South, St. Petersburg, FL 33701; phone 727-824-5312; fax 727-824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at 301-427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1506.

FOR FURTHER INFORMATION CONTACT: Amy Hapeman or Patrick Opay, 301-713-2289.

SUPPLEMENTARY INFORMATION: The subject modification to Permit No. 1506, issued on March 23, 2005 (70 FR 20530) is requested under the authority of the Endangered Species Act of 1973, as amended (16 U.S.C. 1531 et seq.) and the regulations governing the taking, importing, and exporting of endangered and threatened species (50 CFR 222-226).

Permit No. 1506 authorizes the permit holder to study neonate and juvenile loggerhead (Caretta caretta), green (Chelonia mydas), Kemp's ridley (Lepidochelys kempii), hawksbill (Eretmochelys imbricata) and leatherback (Dermochelys coriacea) sea turtles in the waters of the Gulf of Mexico and the Atlantic Ocean off the coast of Florida. The permit holder requests authorization to increase takes to study up to 100 green, 50 Kemp's ridley, 50 hawksbill and 10 leatherback sea turtles annually. A subset of green sea turtles would be examined with magnetic resonance interferometry (MRI), held for 3-4 days and released to determine their level of anthropogenic debris ingestion. Annually, four of each species of green, hawksbill, and Kemp's ridley sea turtles would have temporary transmitters attached to measure movements and dive patterns, would be recaptured after 24 hours to remove the transmitter, and released.

Dated: March 3, 2006.
Patrick Opay,
Acting Chief, Permits, Conservation and Education Division, Office of Protected Resources, National Marine Fisheries Service.

[FR Doc. E6-3360 Filed 3-8-06; 8:45 am]

BILLING CODE 3510-22-S